DEPARTMENT OF ENERGY

Federal Energy Regulatory Commission

Combined Notice of Filings #1

Take notice that the Commission received the following electric rate filings:

Docket Numbers: ER17-2109-001.

Applicants: PJM Interconnection, L.L.C., Old Dominion Electric Cooperative.

Description: Compliance filing: Compliance Filing per 8/31/17 Order in Docket No. ER17-2109-000 to be effective 7/1/2017.

Filed Date: 9/12/17.

Accession Number: 20170912-5034.

Comments Due: 5 p.m. ET 10/3/17.

Docket Numbers: ER17-2456-000.

Applicants: Ohio Power Company.

Description: § 205(d) Rate Filing: OPCo-Fremont Energy Center Facilities Agreement Cancellation to be effective 9/30/2017.

Filed Date: 9/11/17.

Accession Number: 20170911-5101.

Comments Due: 5 p.m. ET 10/2/17.

Docket Numbers: ER17-2457-000.

Applicants: Rock Creek Wind Project, LLC.

Description: Baseline eTariff Filing: MBR Tariff to be effective 9/15/2017.

Filed Date: 9/12/17.

Accession Number: 20170912-5031.

Comments Due: 5 p.m. ET 10/3/17.

Docket Numbers: ER17-2458-000.

Applicants: Public Service Company of Colorado.

Description: § 205(d) Rate Filing: 20170911_Yampa Valley 2nd Amended Cleanup Filing to be effective 4/28/2017.

Filed Date: 9/12/17.

Accession Number: 20170912-5086.

Comments Due: 5 p.m. ET 10/3/17.

Docket Numbers: ER17-2459-000.

Applicants: American Transmission Systems, Incorporation, PJM Interconnection, L.L.C.

Description: § 205(d) Rate Filing: ATSI Submits Engineering and Construction Services Agreement No. 4712 to be effective 11/11/2017.

Filed Date: 9/12/17.

Accession Number: 20170912-5089.

Comments Due: 5 p.m. ET 10/3/17.

Docket Numbers: ER17-2460-000.

Applicants: Public Service Company of Colorado.

Description: § 205(d) Rate Filing: 20170911_IREA 4th Amended Cleanup Filing to be effective 4/28/2017.

Filed Date: 9/12/17.

Accession Number: 20170912-5092.

Comments Due: 5 p.m. ET 10/3/17.

Take notice that the Commission received the following electric securities filings:

Docket Numbers: ES17-25-000; ES17-26-000; ES17-27-000; ES17-28-000; ES17-29-000; ES17-30-000.

Applicants: Entergy Arkansas, Inc., Entergy Louisiana, LLC, Entergy Mississippi, Inc., Entergy New Orleans, Inc., Entergy Texas, Inc., System Energy Resources, Inc.

Description: Supplement to April 28, 2017 Joint Application for Authorizations under FPA Section 204 of Entergy Arkansas, Inc., et al.

Filed Date: 9/1/17.

Accession Number: 20170901-5232.

Comments Due: 5 p.m. ET 9/22/17.

Docket Numbers: ES17-56-000.

Applicants: Georgia Power Company.

Description: Application for Borrowing Authority of Georgia Power Company.

Filed Date: 9/12/17.

Accession Number: 20170912-5069.

Comments Due: 5 p.m. ET 10/3/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 12, 2017.
Nathaniel J. Davis, Sr.,
Deputy Secretary.

[FR Doc. 2017-19727 Filed 9-15-17; 8:45 am]

BILLING CODE 6717-01-P